DEPARTMENT OF ENERGY

Environmental Management Site-Specific Advisory Board, Portsmouth

AGENCY: Office of Environmental Management, Department of Energy.

ACTION: Notice of open meeting.

SUMMARY: This notice announces an in-person/virtual hybrid open meeting of the Environmental Management Site-Specific Advisory Board (EM SSAB), Portsmouth. The Federal Advisory Committee Act requires that public notice of this in-person/virtual hybrid meeting be announced in the Federal Register.

DATES: Thursday, June 2, 2022; 6:00 p.m.-8:00 p.m.

ADDRESSES: This hybrid meeting will be conducted in person for Board members, Department of Energy (DOE) representatives and Board support staff, and virtually for all other participants.

Board members, DOE representatives and support staff will participate in-person, strictly following COVID-19 precautionary measures, at: The Ohio State University, Endeavor Center, 1862 Shyville Road, Room 165, Piketon, OH 45661.

Board liaisons and DOE contractors will participate via virtual platforms.

FOR FURTHER INFORMATION CONTACT: Eric Roberts, Board Support Manager, by Phone: (270) 554-3004 or Email: eric@pgdpcab.org.

SUPPLEMENTARY INFORMATION:

Purpose of the Board: The purpose of the Board is to make recommendations to DOE-EM and site management in the areas of environmental restoration, waste management, and related activities.

Tentative Agenda

• Review of Agenda

• Administrative Issues

• Reading of Public Comments

Public Participation: The in-person/online virtual hybrid meeting is open to the public. To obtain the link to observe this meeting, please contact the Portsmouth Board Support Manager at the aforementioned email address by no later than 5:00 p.m. ET on Monday, May 30, 2022. Please put “Meeting Link” in the subject line. Written statements may be filed with the Board either before or after the meeting as there will not be opportunities for live public comment during this online virtual meeting. Comments received by no later than 5:00 p.m. ET on Monday, May 30, 2022, will be read aloud during the meeting. Comments will also be accepted after the meeting, by no later than 5:00 p.m. ET on Friday, June 10, 2022. Please submit comments to the Portsmouth Board Support Manager at the aforementioned email address. Please put “Public Comment” in the subject line. The Deputy Designated Federal Officer is empowered to conduct the meeting in a fashion that will facilitate the orderly conduct of business. Individuals wishing to submit public comments should email them as directed above.

Minutes: Minutes will be available by writing or calling Eric Roberts, Board Support Manager, Emerging Technology Center, Room 221, 4810 Alben Barkley Drive, Paducah, KY 42001; Phone: (270) 554-3004. Minutes will also be available at the following website: https://www.energy.gov/pppo/ports-ssab/listings/meeting-materials.

Signed in Washington, DC, on April 26, 2022.
LaTanya Butler,
Deputy Committee Management Officer.

[FR Doc. 2022-09437 Filed 5-2-22; 8:45 am]

BILLING CODE 6450-01-P